DEPARTMENT OF HEALTH AND HUMAN SERVICES

Centers for Disease Control and Prevention

[60Day-04-11]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Pregnancy Risk Assessment Monitoring System (PRAMS) Program Evaluation—New—National Center for Chronic Disease Prevention and Health Promotion (NCCDPHP), Centers for Disease Control and Prevention (CDC).

Background

The Pregnancy Risk Assessment Monitoring System (PRAMS) is a surveillance project of the CDC, National Center for Chronic Disease Prevention and Health Promotion and state health departments. PRAMS collects state-specific, population-based data on maternal attitudes and experiences prior to, during, and immediately following pregnancy.

The goal of the PRAMS project is to improve the health of mothers and infants by reducing adverse outcomes such as low birth weight, infant mortality and morbidity, and maternal morbidity. PRAMS provides state-specific data for planning and assessing health programs and for describing maternal experiences that may contribute to maternal and infant health. PRAMS collects data that are unavailable through other surveillance systems and has become a critical mechanism for identifying and monitoring trends, informing program evaluations and policy decisions, and tracking progress toward Healthy People 2010 objectives that are related to maternal and child health. Currently 31 states and New York City administer PRAMS, representing 62% of all U.S. births. The objectives of the program evaluation are threefold:

1. To inform the operational, analytic, translation, and capacity building functions of the current PRAMS system and make them more efficient, effective and capable of meeting future needs.

2. To provide information that will guide the expansion and support of additional state PRAMS programs.

3. To provide information that will enable the PRAMS system to be more responsive to changes in public health priorities and policies, including the needs of the state programs and the wider MCH community.

A key component of the PRAMS evaluation is a semi-structured mail survey of all 32 PRAMS program directors. The focus of the mail-in survey will be to examine ways to make PRAMS data accessible for analysis, factors promoting capacity and utilization, costs, indicators of success, and additional resources needed to improve quality and responsiveness.

Prior to fielding the survey, a research contractor will conduct one to two hour interviews with 3 to 4 program representatives. These interviews will help to reduce overall respondent burden by assessing whether the survey is comprehensible and relevant, whether the terms and phrases are understood as intended, and whether it is easy to read.

The information obtained from this data collection will help the CDC meet its evaluation objectives as described above, responses are voluntary. No proprietary items or sensitive information will be collected. There is no cost to respondents.

Form | Number of respondents | Number of responses per respondent | Average burden per response (in hours) | Total burden (in hours)
Mail-in Survey | 32 | 1 | 60/60 | 32

Dated: December 1, 2003.
Laura Yerdon Martin,
Acting Director, Executive Secretariat, Centers for Disease Control and Prevention.

[FR Doc. 03-30427 Filed 12-8-03; 8:45 am]

BILLING CODE 4163-18-P